DEPARTMENT OF AGRICULTURE

Grain Inspection, Packers and Stockyards Administration

[02-b-s]

Designation for the Oregon Area

AGENCY: Grain Inspection, Packers and Stockyards Administration, USDA.

ACTION: Notice.

SUMMARY: Grain Inspection, Packers and Stockyards Administration (GIPSA) announces the designation of Lewiston Grain Inspection Service, Inc. (Lewiston) to provide official services under the United States Grain Standards Act, as amended (Act).

EFFECTIVE DATE: May 1, 2003.

ADDRESSES: USDA, GIPSA, Janet M. Hart, Chief, Review Branch, Compliance Division, STOP 3604, Room 1647-S, 1400 Independence Avenue, SW., Washington, DC 20250-3604.

FOR FURTHER INFORMATION CONTACT: Janet M. Hart at 202-720-8525, e-mail Janet.M.Hart@usda.gov.

SUPPLEMENTARY INFORMATION: This action has been reviewed and determined not to be a rule or regulation as defined in Executive Order 12866 and Departmental Regulation 1512-1; therefore, the Executive Order and Departmental Regulation do not apply to this action.

In the November 22, 2002, Federal Register (67 FR 70397), GIPSA announced that the Oregon Department of Agriculture was ceasing official inspection services, effective November 27, 2002, and asked persons interested in providing official services in the Oregon geographic area to submit an application for designation. Applications were due by December 23, 2002.

Lewiston was the sole applicant for designation to provide official services in the area specified in the November 22, 2002 Federal Register. GIPSA asked for comments on Lewiston in the January 29, 2003, Federal Register (68 FR 4445). No comments were received by the closing date, February 28, 2003.

GIPSA evaluated all available information regarding the designation criteria in Section 7(f)(l)(A) of the Act and, according to Section 7(f)(l)(B), determined that Lewiston, main office in Lewiston, Idaho, is able to provide official services in the geographic area specified in the November 22, 2002, Federal Register, for which they applied, in addition to their currently assigned area. Interested persons may obtain official services by calling Lewiston at 208-746-0451.

Authority: Pub. L. 94-582, 90 Stat. 2867, as amended (7 U.S.C. 71 et seq.).

Dated: March 20, 2003.
Donna Reifschneider,
Administrator, Grain Inspection, Packers and Stockyards Administration.

[FR Doc. 03-7021 Filed 3-24-03; 8:45 am]

BILLING CODE 3410-EN-P